DEPARTMENT OF LABOR

Employment and Training Administration

Announcement Regarding States Triggering “On” or “Off” in the Emergency Unemployment Compensation 2008 (EUC08) Program and the Federal-State Extended Benefits (EB) Program

AGENCY: Employment and Training Administration, Labor.

ACTION: Notice.

SUMMARY: Announcement regarding states triggering “on” or “off” in the Emergency Unemployment Compensation 2008 (EUC08) program and the Federal-State Extended Benefits (EB) Program.

The U.S. Department of Labor (Department) produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding states' EB and EUC08 trigger status:

• Based on data released by the Bureau of Labor Statistics on May 18, 2012, the District of Columbia, New York, and West Virginia no longer meet one of the criteria to remain “on” in EB, i.e., having their current three month average, seasonally adjusted total unemployment rate be at least 110% of one of the rates from a comparable prior period in one of the three prior years. This triggers these states “off” EB and the end of the payable period for these states in the EB program will be the week ending June 9, 2012.

• Based on data released by the Bureau of Labor Statistics on May 18, 2012, the three month average, seasonally adjusted total unemployment rate in Idaho fell below the 8.0% trigger threshold required to remain “on” in a high unemployment period (HUP) within the EB program. Claimants in this state will remain eligible for up to 20 weeks of benefits through June 9, 2012, but starting June 10, 2012, the maximum potential entitlement in the EB program for this state will decrease from 20 weeks to 13 weeks.

• Based on data released by the Bureau of Labor Statistics on May 18, 2012, the estimated three month average, seasonally adjusted total unemployment rate for New York rose to meet the 8.5% trigger threshold to trigger “on” in Tier 4 of the EUC 2008 program. The 13 week mandatory “on” period in New York for Tier 4 of the EUC program will begin June 4, 2012. As a result, the current maximum potential entitlement in the EUC program will increase from 47 weeks to 53 weeks.

• States that are triggered “on” to Tier 4 of the EUC08 program, but not triggered “on” to EB, may be eligible to augment the entitlement for new Tier 4 claimants with a maximum potential duration of 16 weeks. This ability to augment the entitlement of new Tier 4 claimants concluded with the week ending May 26, 2012. Starting May 27, 2012, all claimants exhausting Tier 3 who establish entitlement in Tier 4 will only be eligible for up to 6 weeks of benefits. Claimants who had previously been augmented with 16 weeks of benefits can continue to draw those benefits. States currently affected by this provision are Arizona, California, Florida, Georgia, Illinois, Kentucky, Michigan, Mississippi, North Carolina, Oregon, Puerto Rico, and South Carolina.

Under Public Law 112-96, the current total unemployment rate trigger thresholds used to establish state eligibility for the tiers of EUC are scheduled to change. Currently, and through the week ending May 26, 2012, Tiers 1 and 2 do not require any specific TUR trigger rate, Tier 3 requires a 6% TUR trigger rate and Tier 4 requires an 8.5% TUR trigger rate. The current trigger notices reflect state eligibility under these TUR trigger rate thresholds. With the week beginning May 27, the following changes will take effect:

• Tier 1 will continue to be open to all claimants with EUC eligibility, with no changes.

• Tier 2 will require states to have at least a 6% TUR trigger rate.

• Tier 3 will require states to have at least a 7% TUR trigger rate.

• Tier 4 will require states to have at least a 9% TUR trigger rate.

Because new unemployment rates will not be released by the Bureau of Labor Statistics before May 27, when Public Law 112-96 causes changes in the rates necessary to be “on” in certain Tiers of EUC, states can now know with certainty if they will have an “off” indicator in a Tier of EUC with the week ending June 2.

• States that will be below the rate necessary to remain on in Tier 2 under the new 6% trigger threshold are: IA, MN, NE., NH, ND, OK, SD, UT, VT, VA, and WY. These states will have an “off” indicator in EUC Tier 2 with the week ending June 2, 2012. The week ending June 23, 2012 will be the last week in which EUC claimants in those states could exhaust Tier 1 and establish eligibility in Tier 2. Under the phase-out provisions, claimants could receive any remaining entitlement they have in Tier 2 after June 23, 2012.

• States that will be below the rate necessary to remain on in Tier 3 under the new 7% trigger threshold are: DE, HI, KS, MD, MA, MT, WV, and WI. These states will have an “off” indicator in EUC Tier 3 with the week ending June 2, 2012. The week ending June 23, 2012 will be the last week in which EUC claimants in those states could exhaust Tier 2 and establish eligibility in Tier 3. Under the phase-out provisions, claimants could receive any remaining entitlement they have in Tier 3 after June 23, 2012.

• States that will be below the rate necessary to remain on in Tier 4 under the new 9% trigger threshold are: AZ, IL, KY, MI, and OR. These states will have an “off” indicator in EUC Tier 4 with the week ending June 2, 2012. The week ending June 23, 2012 will be the last week in which EUC claimants in those states could exhaust Tier 3 and establish eligibility in Tier 4. Under the phase-out provisions, claimants could receive any remaining entitlement they have in Tier 4 after June 23, 2012.

Information for Claimants

The duration of benefits payable in the EUC08 program, and the terms and conditions under which they are payable, are governed by Public Laws 110-252, 110-449, 111-5, 111-92, 111-118, 111-144, 111-157, 111-205, 111-312, 112-96, and the operating instructions issued to the states by the Department. The duration of benefits payable in the EB program, and the terms and conditions on which they are payable, are governed by the Federal-State Extended Unemployment Compensation Act of 1970, as amended, and the operating instructions issued to the states by the Department.

In the case of a state concluding an EB period, the State Workforce Agency will furnish a written notice of any change in potential entitlement to each individual who had established eligibility for EB (20 CFR 615.13 (c)(4)). Persons who believe they may be entitled to benefits under the EB or EUC08 programs, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 31st day of May, 2012.
Jane Oates,
Assistant Secretary for Employment and Training.

[FR Doc. 2012-13836 Filed 6-6-12; 8:45 am]

BILLING CODE 4510-FW-P